DEPARTMENT OF ENERGY

Federal Energy Regulatory Commission

Notice of Effectiveness of Exempt Wholesale Generator or Foreign Utility Company Status

| Docket Nos.
Origin Wind Energy, LLC | EG14-92-000
Beech Ridge Energy LLC | EG14-93-000
Beech Ridge Energy II LLC | EG14-94-000
Beech Ridge Energy Storage LLC | EG14-95-000
Tonopah Solar Energy, LLC | EG14-96-000
Spring Canyon Interconnection LLC | EG14-97-000
Spring Canyon Energy III LLC | EG14-98-000
Spring Canyon Energy II LLC | EG14-99-000
Spring Canyon Energy LLC | EG14-100-000
Seiling Wind Interconnection Services, LLC | EG14-101-000
Hoopeston Wind LLC | EG14-102-000
Calpine Fore River Energy Center, LLC | EG14-103-000
Solar Star California XIII, LLC | EG14-104-000
Indeck Wharton, LLC | EG14-105-000
Palo Duro Wind Interconnection Services, LLC | EG14-106-000
Rattlesnake Wind I LLC | EG14-107-000
Roundtop Energy LLC | EG14-108-000
Bornish Wind, LP | FC14-16-000
Kerwood Wind, LP | FC14-17-000

Take notice that during the month of November 2014, the status of the above-captioned entities as Exempt Wholesale Generators or Foreign Utility Companies became effective by operation of the Commission's regulations. 18 CFR 366.7(a).

Dated: December 8, 2014.
Kimberly D. Bose,
Secretary.

[FR Doc. 2014-29705 Filed 12-18-14; 8:45 am]

BILLING CODE 6717-01-P